DEPARTMENT OF HOMELAND SECURITY

Coast Guard

[Docket No. USCG-2024-0609]

National Offshore Safety Advisory Committee; September 2024 Meeting

AGENCY: United States Coast Guard, Department of Homeland Security.

ACTION: Notice of open Federal advisory committee meetings.

SUMMARY: The National Offshore Safety Advisory Committee (Committee) will meet in-person along with the SEACOR POWER and Dynamic Positioning subcommittees over two days in Spring, Texas to discuss matters relating to activities directly involved with, or in support of, the exploration of offshore mineral and non-mineral energy resources, to the extent that such matters are within the jurisdiction of the United States Coast Guard. These three meetings will be open to the public.

DATES:

Meetings: The National Offshore Safety Advisory Committee's subcommittees will meet on Tuesday, September 17, 2024. The SEACOR POWER subcommittee, from 12:30 p.m. to 2 p.m. (CDT); and then the Dynamic Positioning subcommittee from 2 p.m. to 3:30 p.m. (CDT).

The full Committee will meet on Wednesday, September 18, 2024, from 8 a.m. to 5:30 p.m. (CDT). Please note these meetings may end early if the subcommittees or the full Committee have completed their business.

Comments and supporting documents: To ensure your comments are reviewed by Committee and subcommittee members before the meetings, submit your written comments no later than September 4, 2024.

ADDRESSES: The three meetings will be held at American Bureau of Shipping Global Headquarters, 1701 City Place Drive, Spring, TX 77389.

Pre-registration Information: Pre-registration is not required to attend the Committee or subcommittee meetings. Please ensure you arrive at least 15 minutes prior to the meetings, we will provide you with the appropriate handouts that the Committee and subcommittee members have in their possession.

The National Offshore Safety Advisory Committee is committed to ensuring all participants have equal access regardless of disability status. If you require reasonable accommodations due to a disability to fully participate, please email Mr. Patrick Clark at patrick.w.clark@uscg.mil or telephone at 571-607-8236 as soon as possible.

Instructions: You are free to submit comments at any time, including orally at the meetings as time permits, but if you want Committee and subcommittee members to review your comment before the meetings, please submit your comments no later than September 4, 2024. We are particularly interested in comments on the topics in the “Agenda” section below. We encourage you to submit comments through the Federal Decision Making Portal at https://www.regulations.gov. To do so, go to https://www.regulations.gov, type USCG-2024-0609 in the search box and click “Search.” Next, look for this document in the Search Results column, and click on it. Then click on the Comment option. If your material cannot be submitted using https://www.regulations.gov, email the individual in the FOR FURTHER INFORMATION CONTACT section of this document for alternate instructions. You must include the docket number USCG-2024-0609. Comments received will be posted without alteration at http://www.regulations.gov, including any personal information provided. You may wish to review the Privacy and Security Notice, found via link on the homepage https://www.regulations.gov. and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions.

Additionally, if you go to the online docket and sign-up for email alerts, you will be notified when comments are posted.

FOR FURTHER INFORMATION CONTACT: Mr. Patrick W. Clark, Designated Federal Officer of the National Offshore Safety Advisory Committee, telephone 571-607-8236 or email patrick.w.clark@uscg.mil.

SUPPLEMENTARY INFORMATION: Notice of these three meetings is given pursuant to the Federal Advisory Committee Act, (Pub. L. 117-286, 5 U.S.C. ch. 10). The National Offshore Safety Advisory Committee was authorized on December 4, 2018, by section 601 of the Frank LoBiondo Coast Guard Authorization Act of 2018 (Pub. L. 115-282, 132 Stat. 4192), and amended by section 8331 of the Elijah E. Cummings Coast Guard Authorization Act of 2022 (Pub. L. 116-283) and is codified in 46 U.S.C. 15106.

The Committee operates under the provisions of the Federal Advisory Committee Act, and 46 U.S.C. 15109. The Committee provides advice and recommendations to the Secretary of Homeland Security on matters relating to activities directly involved with, or in support of, the exploration of offshore mineral and non-mineral energy resources, to the extent that such matters are within the jurisdiction of the United States Coast Guard.

Agenda

Tuesday, September 17, 2024

Two subcommittees will meet to discuss the following task statements.

(1) Task Statement 01-2023: SEACOR POWER—Review National Transportation Safety Board (NTSB) report concerning the capsizing of the U.S. flagged liftboat SEACOR POWER.

(2) Task Statement 01-2024: Dynamic Positioning—Review the industry standards that may enhance safety of Dynamic Positioning vessels and operations on the Outer Continental Shelf (OCS).

The task statements and other subcommittee information are located at https://homeportr.uscg.mil/missions/federal-advisory-committees/national-offshore-safety-advisory-committee-(nosac)/subcommittee-working-groups

The agenda of each subcommittee meeting will include the following:

(1) Call to order by subcommittee Chair.

(2) Introduction and review subcommittee task statement.

Subcommittee discussion and preparation of draft recommendations for the full Committee meeting on September 18, 2024.

(3) Public comment period.

(4) Subcommittee members approve final draft recommendations to send to the full

Committee.

(5) Adjournment of meeting.

Wednesday, September 18, 2024

The agenda for the September 18, 2024 Committee meeting is as follows:

(1) Call to order.

(2) Roll call and determination of quorum.

(3) Adoption of previous meeting minutes and agenda.

(4) Opening remarks.

(5) SEACOR POWER Subcommittee Chair briefs the Final Draft Report to the Committee.

(6) Committee deliberation.

(7) Committee voting.

(8) Update from the Dynamic Positioning subcommittee.

(9) New business—Issuance of three task statements on Sexual Assault and Sexual

Harassment.

(10) Public comment period.

(11) Closing remarks and plans for next meeting.

(12) Adjournment of meeting.

A copy of all pre-meeting documentation will be available at: https://homeportr.uscg.mil/missions/federal-advisory-committees/national-offshore-safety-advisory-committee-(nosac)/committe-meetings no later than September 4, 2024. Alternatively, you may contact Mr. Patrick Clark as noted in the FOR FURTHER INFORMATION CONTACT section above. Please contact the individual listed in the FOR FURTHER INFORMATION CONTACT section if you wish to make a public comment. All public comments will be no longer than 3 minutes.

Dated: August 19, 2024
Jeffrey G. Lantz,
Director of Commercial Regulations and Standards.

[FR Doc. 2024-18934 Filed 8-22-24; 8:45 am]

BILLING CODE 9110-04-P